DEPARTMENT OF HEALTH AND HUMAN SERVICES

National Institutes of Health

Center for Scientific Review; Cancellation of Meeting

Notice is hereby given of the cancellation of the Center for Scientific Review Special Emphasis Panel, July 8, 2008, 8 a.m. to July 8, 2008, 4:30 p.m., One Washington Circle Hotel, One Washington Circle, NW., Washington, DC, 20037 which was published in the Federal Register on June 2, 2008, 73 FR 31493-31495.

The meeting is cancelled due to the applications being withdrawn.

Dated: June 12, 2008.
Jennifer Spaeth,
Director, Office of Federal Advisory Committee Policy.

[FR Doc. E8-13800 Filed 6-18-08; 8:45 am]

BILLING CODE 4140-01-M